NATIONAL LABOR RELATIONS BOARD

29 CFR Chapter I

RIN 3142-AA13

The Standard for Determining Joint-Employer Status

AGENCY: National Labor Relations Board

ACTION: Proposed rulemaking; extension of comment period.

SUMMARY: The National Labor Relations Board (the Board) published a Notice of Proposed Rulemaking in the Federal Register of September 14, 2018, seeking comments from the public concerning the standard for determining joint-employer status under the National Labor Relations Act. The date to submit responses to the Notice is extended for 30 days.

DATES: The comment period for the notice of proposed rulemaking published at 83 FR 46681 is extended. Comments must be received by the Board on or before December 13, 2018. Comments replying to the comments submitted during the initial comment period must be received by the Board on or before December 20, 2018.

Dated: October 31, 2018.
Farah Z. Qureshi,
Associate Executive Secretary.

[FR Doc. 2018-24134 Filed 11-2-18; 8:45 am]

BILLING CODE P